DEPARTMENT OF TRANSPORTATION

Federal Aviation Administration

[Docket No. FAA-2011-1149]

Clarification of Policy Regarding Designated Aircraft Dispatcher Examiners

AGENCY: Federal Aviation Administration (FAA), Department of Transportation (DOT).

ACTION: Policy Revision.

SUMMARY: This notice announces a revision to policy contained in FAA Order 8900.1, regarding the qualification, authority, and limitations of Designated Aircraft Dispatcher Examiners (DADEs). This policy revision will be published in 8900.1, Volume 3, chapter 13, sections 1 through 4, and Volume 5, Chapter 5, Section 10. This policy provides guidance to FAA employees on the responsibilities, qualifications, and oversight of DADEs under 14 CFR part 183. Under this revision, the FAA is clarifying its policy regarding the qualifications, privileges, and limitations of these designees, in addition to establishing guidelines for DADEs when testing applicants for an Aircraft Dispatcher Certificate.

DATES: This policy will ultimately be published in conjunction with policy related to Aircraft Dispatcher Certification Courses, which is posted for public comment in docket number, FAA-2014-0820. These two sets of policy are somewhat interrelated. Therefore we will hold publication of this policy revision until the conclusion of the comment period and subsequent adjudication of comments, to the draft Aircraft Dispatcher Certification policy contained in FAA-2014-0820. The comment period for the Aircraft Dispatcher Certification policy will close on February 22, 2015.

ADDRESSES: For information on where to obtain copies of rulemaking documents and other information related to this final policy, see “How To Obtain Additional Information” in the SUPPLEMENTARY INFORMATION section of this document.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Theodora Kessaris,, New Program Implementation and Technical Support Branch, Air Transportation Division, Flight Standards Service, Federal Aviation Administration, 800 Independence Avenue SW., Washington, DC 20591; telephone: 202-267-8166; facsimile: 202-267-5229; email: Theodora.kessaris@faa.gov.

SUPPLEMENTARY INFORMATION:

Background

On November 8, 2011, the FAA announced the availability of a proposed revision to policy contained in FAA Order 8900.1, regarding the qualification, authority, and limitations of Designated Aircraft Dispatcher Examiners (DADEs). The public was provided with a total of 90 days in which to provide comment to the proposed revision. The initial comment period, which was 30 days, was extended to 90 days at the public's request. The FAA has carefully considered the comments submitted by the public and incorporated them into this DADE policy revision as appropriate. This policy revision takes into consideration comments received in this docket during the period between November 8, 2011 and February 8, 2012. A table containing the FAA's disposition of those comments has also been provided in this docket. The FAA will hold publication of this DADE policy revision in Order 8900.1, until such time as it can be published simultaneously with the policy related to Aircraft Dispatcher Certification Courses, which is currently available for public in docket number FAA-2014-0820. Final publication of the DADE policy revision contained in this docket, as well as the Aircraft Dispatcher Certification Course policy contained in docket number FAA-2014-0820, will be announced by Notice which will be published on Flight Standards Information Management System Web site at http://fsims.faa.gov. When published, the Notice will also be available at http://www.faa.gov/regulations_policies/orders_notices. A copy of the final draft of the policy related to DADEs is available for review in the assigned docket for the Order at http://www.regulations.gov.

Issued in Washington, DC on December 15, 2014.
John Barbagallo,
Deputy Director, FAA Flight Standards Service.

[FR Doc. 2014-30230 Filed 12-24-14; 8:45 am]

BILLING CODE 4910-13-P